UTAH RECLAMATION MITIGATION AND CONSERVATION COMMISSION

Notice of Availability of the Final Environmental Assessment and Finding of No Significant Impact for Fort Field Diversion Dam Reconstruction, Utah County, UT

AGENCY: Utah Reclamation Mitigation and Conservation Commission.

ACTION: Notice of availability.

SUMMARY: The Utah Reclamation Mitigation and Conservation Commission (Mitigation Commission), Central Utah Water Conservancy District (District) and U.S. Department of the Interior (Department), jointly prepared an Environmental Assessment (EA) to determine the effects of reconstructing the Fort Field Diversion on the Provo River in Utah County, to provide unimpaired fish passage during low flow conditions and to meet diversion requirements for canal companies and legal water users.

The Proposed Action selected from the EA for implementation entails the Mitigation Commission, District and Department cooperating to reconstruct the Fort Field Diversion structure, consisting of a cobble bar, a concrete sluiceway, with gates, tree removal and replacement or lining of a section of pipeline.

The Fort Field Diversion often functions as a dry dam: it diverts the entire stream flow of Provo River, with the exception of small quantities of water that leak through the diversion structure. It is also the lowest diversion on the Provo River and the first diversion encountered by June sucker as they ascend the Provo River to spawn. The June sucker is an endangered fish species found only in Utah Lake, which swims from Utah Lake up into the Provo River to spawn.

The Fort Field Diversion restricts June sucker spawning to only the lowest 3.8 miles of Provo River, and compromises the quality of spawning habitat in that lower reach; the upper 1.1 miles of the 4.9 mile reach designated as critical habitat for June sucker, is often inaccessible during May and June, when June sucker spawn.

The decision to select the Proposed Action from the EA will allow reconstruction of the Fort Field diversion structure resulting in fish passage and access to the additional 1.1 miles of June sucker's critical habitat. It will also allow accurate and real-time bypass and measurement of instream flows, maintaining the ability to meet diversion requirements for canal companies and legal water users who divert water at the Fort Field Diversion structure.

Based on information contained in the EA, a Finding of No Significant Impact (FONSI) was made, thus the Proposed Action does not require preparation of an Environmental Impact Statement (EIS) (it will not have a significant effect on the human environment; negative environmental impacts that could occur are negligible and can be generally eliminated with mitigation; there are no unmitigated adverse impacts on public health or safety, threatened or endangered species, sites or districts listed in or eligible for listing in the National Register of Historic Places, or other unique characteristics of the region; no highly uncertain or controversial impacts, unique or unknown risks, cumulative effects, or elements of precedence were identified that have not been mitigated; and, implementation of the action will not violate any federal, state, or local environmental protection law.)

ADDRESSES: Copies of the Final Environmental Assessment and Finding of No Significant Impact can be obtained at the Utah Reclamation Mitigation and Conservation Commission, 230 South 500 East, Suite 230, Salt Lake City, Utah, 84102. They may also be viewed on the internet at: http://www.mitigationcommission.gov/news.html.

FOR FURTHER INFORMATION CONTACT: Maureen Wilson, Project Coordinator, (801) 524-3166.

Dated: March 13, 2008.
Michael C. Weland,
Executive Director.

[FR Doc. E8-5743 Filed 3-20-08; 8:45 am]

BILLING CODE 4310-05-P